DEPARTMENT OF COMMERCE

National Oceanic and Atmospheric Administration

RIN 0648-XO45

Marine Mammals; receipt of application for permit amendment

AGENCY: National Marine Fisheries Service (NMFS), National Oceanic and Atmospheric Administration (NOAA), Commerce.

ACTION: Notice.

SUMMARY: Notice is hereby given that Dr. Peter Tyack, Woods Hole Oceanographic Institution, Woods Hole, MA has applied for an amendment to Permit No. 14241 to conduct research on marine mammals.

ADDRESSES: The application and related documents are available for review by selecting “Records Open for Public Comment” from the Features box on the Applications and Permits for Protected Species home page, https://apps.nmfs.noaa.gov, and then selecting File No. 14241 from the list of available applications.

These documents are also available upon written request or by appointment in the following office(s):

Permits, Conservation and Education Division, Office of Protected Resources, NMFS, 1315 East-West Highway, Room 13705, Silver Spring, MD 20910; phone (301)713-2289; fax (301)713-0376;

Northeast Region, NMFS, 55 Great Republic Drive, Gloucester, MA 01930; phone (978)281-9300; fax (978)281-9333; and

Southeast Region, NMFS, 263 13th Avenue South, Saint Petersburg, Florida 33701; phone (727)824-5312; fax (727)824-5309.

FOR FURTHER INFORMATION CONTACT: Tammy Adams or Carrie Hubard, (301)713-2289.

SUPPLEMENTARY INFORMATION: The subject amendment to Permit No. 14241 is requested under the authority of the Marine Mammal Protection Act of 1972, as amended (16 U.S.C. 1361 et seq.), and the regulations governing the taking and importing of marine mammals (50 CFR part 216.

Permit No. 14241, issued on July 15, 2009 (74 FR 3668), authorizes the permit holder to conduct research on cetacean behavior, sound production, and responses to sound. The research methods include tagging marine mammals with an advanced digital sound recording tag that records the acoustic stimuli an animal hears and measures vocalization, behavior, and physiological parameters. Research also involves conducting sound playbacks in a carefully controlled manner and measuring animals' responses. The principal study species are beaked whales, especially Cuvier's beaked whale (Ziphius cavirostris), and large delphinids such as long-finned pilot whales (Globicephala melas), although other small cetacean species may also be studied. The locations for the field work are the Mediterranean Sea, waters off of the mid-Atlantic United States, and Cape Cod Bay. The permit is valid through July 31, 2014.

The permit holder is requesting the permit be amended to: (1) include authorization for collection of a skin and blubber biopsy sample from some animals that are already authorized to be tagged; (2) add new species for existing projects involving tagging, playbacks, and behavioral observations; and (3) modify and clarify tagging and playback protocols and mitigation for when dependent calves are present. The new species for the Mediterranean Sea-based project are Blainville's beaked whale (Mesoplodon densirostris), Cuvier's beaked whale, short-finned pilot whale (Globicephala macrorhynchus), long-finned pilot whale, Risso's dolphin (Grampus griseus), and false killer whale (Pseudorca crassidens). The new species for the project based off Cape Hatteras, North Carolina are True's beaked whale (M. mirus), Gervais' beaked whale (M. europaeus), Blainville's beaked whale, bottlenose dolphin (Tursiops truncatus), Risso's dolphin, short-beaked common dolphin (Delphinus delphis), and Cuvier's beaked whale. The amendment would be valid through the current expiration date of the permit.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: May 24, 2010.
Tammy C. Adams,
Acting Chief, Permits, Conservation and Education Division, Office of Protected Resources, National Marine Fisheries Service.

[FR Doc. 2010-12824 Filed 5-27-10; 8:45 am]

BILLING CODE 3510-22-S